DEPARTMENT OF TRANSPORTATION

Federal Motor Carrier Safety Administration

49 CFR Part 368

[Docket No. FMCSA-98-3297]

RIN 2126-AA33

Revision of Regulations and Application Form for Mexican-Domiciled Motor Carriers To Operate in U.S. Municipalities and Commercial Zones on the U.S.-Mexico Border; Correction

AGENCY: Federal Motor Carrier Safety Administration (FMCSA), DOT.

ACTION: Notice of proposed rulemaking; correction.

SUMMARY: This document corrects the preamble to the proposed rule published in the Federal Register on May 3, 2001, regarding Revision of Regulations and Application Form for Mexican-Domiciled Motor Carriers to Operate in U.S. Municipalities and Commercial Zones on the U.S.-Mexico Border. This correction revises a statement about the type of authority that most new applicants are expected to request by making it consistent with a similar statement in the rulemaking analysis. This correction would not have a significant economic impact on a substantial number of small entities because the regulatory flexibility analysis is already based upon the corrected statement.

FOR FURTHER INFORMATION CONTACT: Mrs. Valerie Height, (202) 366-6408.

SUPPLEMENTARY INFORMATION: The proposed rule published in the Federal Register on May 3, 2001, (66 FR 22328) makes contradictory statements concerning the type of authority that most new applicants would request under the liberalized NAFTA entry provisions. We believe that most of the new Mexican applicants will register to operate solely within the border area. This revision is consistent with a similar statement in the Regulatory Flexibility Act analysis on page 22331, column three, in the third sentence of the first full paragraph.

In proposed rule FR Doc. 01-11034 published on May 3, 2001, (66 FR 22328) make the following correction. On page 22328, in the second column, revise the last sentence to read as follows:

“With the implementation of the NAFTA entry provision, it is expected that additional Mexican-domiciled motor carriers will seek to operate in the United States, most of them within the border area.”

Issued on: June 13, 2001.
Julie Anna Cirillo,
Acting Deputy Administrator.

[FR Doc. 01-15352 Filed 6-18-01; 8:45 am]

BILLING CODE 4910-EX-M